SURFACE TRANSPORTATION BOARD

[Docket No. FD 36481]

Sonoma-Marin Area Rail Transit District—Acquisition and Operation Exemption—North Coast Railroad Authority

Sonoma-Marin Area Rail Transit District (SMART), a Class III rail carrier, has filed a verified notice of exemption under 49 CFR 1150.41 to acquire from North Coast Railroad Authority (NCRA) and operate approximately 87.65 miles of rail line (the Line), consisting of: (1) The line of railroad and right-of-way in fee between the Sonoma-Mendocino County, Cal., border at NWP milepost 89 and Healdsburg, Cal., at NWP milepost 68.2; and (2) the freight rail operating easement between Healdsburg, at NWP milepost 68.2 and Lombard, Cal., at SP milepost 63.4.¹

¹ The verified notice states that SMART owns the segment of the Line between Healdsburg and Lombard, subject to an easement for freight rail service over the segment, and that, through this verified notice, SMART will acquire the freight rail easement. See Sonoma-Marin Area Rail Transit Dist.—Acquis. Exemption—Nw. Pac. R.R. Auth., FD 34400 (STB served Mar. 10, 2004).

The verified notice states that SMART and NCRA have executed an agreement pursuant to which SMART will acquire the Line from NCRA, and that SMART will become the freight operator of the Line, using a noncarrier contract operator.

SMART certifies that its projected annual revenues as a result of this transaction will not exceed $5 million or the threshold required to qualify as a Class III carrier. SMART also certifies that the proposed acquisition and operation of the Line does not involve a provision or agreement that may limit future interchange with a third-party connecting carrier.

The transaction may be consummated on or after March 4, 2021, the effective date of the exemption (30 days after the verified notice was filed).

If the notice contains false or misleading information, the exemption is void ab initio. Petitions to revoke the exemption under 49 U.S.C. 10502(d) may be filed at any time. The filing of a petition to revoke will not automatically stay the transaction. Petitions for stay must be filed no later than February 25, 2021 (at least seven days before the exemption becomes effective).

All pleadings, referring to Docket No. FD 36481, should be filed with the Surface Transportation Board via e-filing on the Board's website. In addition, a copy of each pleading must be served on SMART's representative, Kevin M. Sheys, Hogan Lovells US LLP, Columbia Square, 555 Thirteenth St. NW, Washington, DC 20004.

According to SMART, this action is categorically excluded from environmental review under 49 CFR 1105.6(c) and from historic preservation reporting requirements under 49 CFR 1105.8(b).

Board decisions and notices are available at www.stb.gov.

Decided: February 12, 2021.
By the Board, Allison C. Davis, Director, Office of Proceedings.
Jeffrey Herzig,
Clearance Clerk.

[FR Doc. 2021-03377 Filed 2-17-21; 8:45 am]

BILLING CODE 4915-01-P